DEPARTMENT OF ENERGY

Federal Energy Regulatory Commission

[Docket No. CP00-40-000]

Florida Gas Transmission Company; Notice of Intent To Prepare an Environmental Impact Statement for the Proposed FGT Phase V Expansion Project, Request for Comments on Environmental Issues, and Notice of Public Scoping Meetings and Site Visit

February 11, 2000.

The staff of the Federal Energy Regulatory Commission (FERC or Commission) will prepare an environmental impact statement (EIS) that will discuss the environmental impacts of the construction and operation of the facilities proposed in the Florida Gas Transmission Company (FGT) Phase V Expansion Project in various counties of Mississippi, Alabama, and Florida.¹ These facilities would consist of about 215.4 miles of pipeline, 15.7 miles of rehabilitated mainline, and 89,765 horsepower (hp) of additional compression. This EIS will be used by the Commission in its decision-making process to determine whether the project is in the public convenience and necessity.

¹ Florida Gas Transmission Company's application in Docket No. CP00-40-000 was filed with the Commission under Section 7(c) of the Natural Gas Act on December 1, 1999.

If you are a landowner on FGT's proposed route and receive this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice FGT provided to landowners along and adjacent to the proposed route. This fact sheet addresses a number of typically asked questions, including the use of eminent domain and how to participate in the Commission's proceedings. It is available for viewing on the FERC Internet website (www.ferc.fed.us).

This notice is being sent to landowners of property crossed by and adjacent to FGT's proposed route; Federal, state, and local agencies; elected officials; environmental and public interest groups; Indian tribes that might attach religious and cultural significance to historic properties in the area of potential effects; and local libraries and newspapers. State and local government representatives are encouraged to notify their constituents of this proposed action and encourage them to comment on their areas of concern.

Additionally, with this notice we are asking those Federal, state, local and tribal agencies with jurisdiction and/or special expertise with respect to environmental issues to cooperate with us in the preparation of the EIS. These agencies may choose to participate once they have evaluated the proposal relative to their agencies' responsibilities. Agencies who would like to request cooperating agency status should follow the instructions for filing comments described below.

The U.S. Forest Service, Ocala National Forest, has expressed an interest in being a cooperating agency for this EIS.

Summary of the Proposed Project

FGT proposes to build additional new natural gas pipeline and compression facilities to transport an annual average of 269,695 million British thermal units (MMBtu) per day of natural gas to serve new markets, primarily electric generation facilities, in Florida. FGT requests Commission authorization to:

• Construct about 215.4 miles of pipeline including:

—91.2 miles of looping ² on the existing mainline in Mississippi, Alabama, and Florida;

² A loop is a segment of pipeline that is usually installed adjacent to an existing pipeline and connected to it at both ends. The loop allows more gas to be moved through the system.

—29.1 miles of new lateral in Alabama; and

—95.1 miles of new laterals and lateral loops in Florida;

• Rehabilitate about 15.7 miles of pipeline in Florida that was previously abandoned in place;

• Install a total of about 89,765 hp of compression at seven existing, one previously planned ³, and two new compressor stations in Alabama and Florida;

³ FGT requested authorization in Docket No. CP99-94-000 to construct Compressor Station 24. Its approval is still pending before the Commission.

• Construct one regulator station in Florida; and

• Construct one meter station in Alabama.

FGT will also acquire from Koch Gateway Pipeline Company (KGPC) an interest in KGPC's Mobile Bay Lateral that would give FGT the rights to about 50 percent of the available capacity on system. Concurrent with the FGT's filing, KGPC filed an application in Docket No. CP00-39-000 for approval to abandon by sale to FGT the interest in its Mobile Bay Lateral.

The general location of FGT's proposed project facilities is shown on the map attached as appendix 1 and a more detailed description of the facilities is included in appendix 2.⁴

⁴ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Land Requirements for Construction

Construction of FGT's proposed pipeline facilities would require about 2,957 acres of land including the construction right-of-way, extra workspaces, and contractor/pipe yards. In general, FGT proposes to use a 75- to 100-foot-wide construction right-of-way. Following construction and restoration of the right-of-way and temporary work spaces, FGT would retain a 30- to 50-foot-wide permanent pipeline right-of-way. Total land requirements for the new permanent right-of-way would be about 695 acres.

FGT proposes to acquire 14 acres for the two proposed compressor stations, although only 6 acres would be used during construction. Once construction is complete, the stations would occupy a total of 3 acres, and the 3 acres used for construction would be restored. The remaining 11 acres would be held as buffer and would not be disturbed.

The EIS Process

The National Environmental Policy Act (NEPA) requires the Commission to take into account the environmental impacts that could result from an action whenever it considers the issuance of a Certificate of Public Convenience and Necessity. NEPA also requires us to solicit and address concerns the public may have about proposals. We call this “scoping”. The main goal of the scoping process is to focus the analysis in the EIS on the important environmental issues. By this Notice of Intent, the Commission requests public comments on the scope of the issues it will address in the EIS. All comments received are considered during the preparation of the EIS.

Our independent analysis of the issues will be in the Draft EIS which will be mailed to Federal, state, and local agencies, public interest groups, affected landowners and other interested individuals, Indian tribes, newspapers, libraries, and the Commission's official service list for this proceeding. A 45-day comment period will be allotted for review of the Draft EIS. We will consider all comments on the Draft EIS and revise the document, as necessary, before issuing a Final EIS. The Final EIS will include our response to each comment received on the Draft EIS and will be used by the Commission in its decision-making process to determine whether to approve the project.

Currently Identified Environmental Issues

The EIS will discuss impacts that could occur as a result of the construction and operation of the proposed project. We have already identified a number of issues that we think deserve attention based on a preliminary review of the proposed facilities and the environmental information provided by FGT. These issues are listed below. This is a preliminary list of issues and may be changed based on your comments and our analysis.

• Soils and Geology

—Impact on prime farmland soils.

—Mixing of topsoil and subsoil during construction.

—Compaction of soil by heavy equipment.

—Erosion control and right-of-way restoration.

—Impact on mineral resources.

—Potential geologic hazards including sinkholes.

• Water Resources

—Impact on 51 perennial waterbodies including the Mobile, St. John's and Wekiva Rivers, and Globe Creek.

—Impact on groundwater and surface water supplies.

—Impact on areas with shallow groundwater.

—Effect of crossing waterbodies with contaminated sediments.

—Potential for erosion and sediment transport to area waterbodies.

—Impact on wetland hydrology.

• Biological Resources

—Short- and long-term effects of right-of-way clearing and maintenance on wetlands, forests, riparian areas, and vegetation communities so special concern.

—Impact on wildlife and fishery habitats.

—Impact on Green Swamp conservation area.

—Potential impact on Federal- and State-listed threatened or endangered species.

—Potential impact on U.S. Forest Service-listed sensitive species.

• Cultural Resources

—Effect on historic and prehistoric sites.

—Native American concerns.

• Socioeconomics

—Effect of the construction workforce on demands for services in surrounding areas.

• Land Use

—Impact on residential areas (81 residences within 50 feet of the construction work area).

—Impact on public lands and special use areas including the Ocala National Forest, Camp Blanding Recreation Area, Little-Big Econ State Forest, James A. Van Fleet State Trail, and various state wildlife management and reserve areas.

—Impact on future land uses and consistency with local land use plans and zoning.

—Visual effect of the new aboveground facilities on surrounding areas.

• Air Quality and Noise

—Construction impact on local air quality and noise environment.

—Impact on local air quality and noise environment resulting from the installation of new compression equipment and the construction and operation of two new compressor stations.

• Pipeline Reliability and Safety

• Cumulative Impact

—Effect of the Phase V Expansion Project combined with that of other projects that have been or may be proposed in the same region and similar time frames.

• Nonjurisdictional Facilities

—Consideration of the effects of construction of the associated facilities that may be constructed by U.S. Agri-Chemicals Corporation; Jacksonville Electric Authority; Palmetto Power, L.L.C.; TECO/Peoples Gas System; City of Tallahassee; Duke Energy North America; Gulf Power Company; and Florida Power and Light Company.

• Alternatives

—Evaluation of possible alternatives to the proposed project or portions of the project, and identification of recommendations on how to lessen or avoid impacts on the various resource areas.

Public Participation and Scoping Meetings

You can make a difference by sending a letter addressing your specific comments or concerns about the project. By becoming a commentor, your concerns will be addressed in the EIS and considered by the Commission. You should focus on the potential environmental effects of the proposal, alternatives to the proposal (including alternative routes), and measures to avoid or lessen environmental impact. The more specific your comments, the more useful they will be. Please carefully follow these instructions to ensure that your comments are received in time and properly recorded:

• Send two copies of your letter to: David P. Boergers, Secretary, Federal Energy Regulatory Commission, 888 First Street, NE, Room 1A, Washington, DC 20426.

• Label one of the comments for the attention of the Environmental Review and Compliance Branch, PR-11.1;

• Reference Docket No. CP00-040-000;

• Mail your comments so that they will be received in Washington, D.C. on or before March 15, 2000.

All commenters will be retained on our mailing list. If you do not want to send comments at this time but still want to stay informed and receive copies of the Draft and Final EISs, you must return the attached Information Request (appendix 4). If you do not send comments or return the Information Request, you will be taken off the mailing list.

In addition to or in lieu of sending written comments, we invite you to attend the public scoping meetings the FERC will conduct in the project area. The locations and times for these meetings are listed below.

Schedule of Public Scoping Meetings for the FGT Phase V Expansion Project Environmental Impact Statement

February 28, 2000, 7:00 PM, University of Mobile, Moorer Auditorium, Thomas T. Martin Fine Arts Building, Main Campus, College Parkway, Prichard, AL, (334) 675-5990.

February 29, 2000, 7:00 PM, Southport Elementary School, Cafeteria Room, 1835 Bridge Street, Southport, FL 32409, (850) 265-2810.

March 1, 2000, 7:00 PM, City of Crystal River, City Hall, Council Chambers, 123 NW Highway 19, Crystal River, FL (352) 795-6511.

March 2, 2000, 7:00 PM, County Service Building, Seminole County Commission, Chambers, Room 1028, 1101 East 1st Street, Sanford, FL, (407) 665-7211.

The public meetings are designed to provide you with more detailed information and another opportunity to offer your comments on the proposed project. FGT representatives will be present at the scoping meetings to described their proposal. Interested groups and individuals are encouraged to attend the meetings and to present comments on the environmental issues they believe should be addressed in the Draft EIS. A transcript of each meeting will be made so that your comments will be accurately recorded.

Site Visit

On the dates of the meetings, we will also be conducting limited site visits to the project area. Anyone interested in participating in the site visit may contact the Commission's Office of External Affairs identified at the end of this notice for more details and must provide their own transportation.

Becoming an Intervenor

In addition to involvement in the EIS scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 3). Only intervenors have the right to seek rehearing of the Commission's decision.

Affected landowners and parties with environmental concerns may be granted intervenor status upon showing good cause by stating that they have a clear and direct interest in the proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS Menu, and following the instructions. For assistance with access to CIPS, the CIPS helpline can be reached at (202) 208-2747.

Linwood A. Watson, Jr.,
Acting Secretary.

[FR Doc. 00-3761 Filed 2-16-00; 8:45 am]

BILLING CODE 6717-01-M